DEPARTMENT OF COMMERCE

Patent and Trademark Office

Agency Information Collection Activities; Submission to the Office of Management and Budget (OMB) for Review and Approval; Comment Request; Trademark Trial and Appeal Board (TTAB) Actions

The United States Patent and Trademark Office (USPTO) will submit the following information collection request to the Office of Management and Budget (OMB) for review and clearance in accordance with the Paperwork Reduction Act of 1995, on or after the date of publication of this notice. The USPTO invites comment on this information collection renewal, which helps the USPTO assess the impact of its information collection requirements and minimize the public's reporting burden. Public comments were previously requested via the Federal Register on May 26, 2020 during a 60-day comment period. This notice allows for an additional 30 days for public comments.

Agency: United States Patent and Trademark Office, Department of Commerce.

Title: Trademark Trial and Appeal Board (TTAB) Actions.

OMB Control Number: 0651-0040.

Form Numbers:

• PTO 2188 (Petition for Cancellation).

• PTO 2120 (Notice of Opposition).

• PTO 2153 (Request for Extension of Time to File an Opposition).

• PTO 2151 (Papers in Inter Partes Cases).

• PTO 2190 (Notice of Appeal).

• PTO 2189 (Ex Parte Appeal General Filing).

Type of Review: Extension and revision of a currently approved information collection.

Number of Respondents: 70,475 respondents.

Average Hours per Response: The USPTO estimates 67,005 responses and that it will take the public approximately 10 to 30 minutes to complete this information collection, depending on the complexity of the submission. This includes the time to gather the necessary information, prepare the appropriate briefs, petition, and other papers, and submit the completed items to the USPTO.

Estimated Total Annual Respondent Burden Hours: 21,133 hours.

Estimated Total Annual Non-Hour Cost Burden: $5,758,746.

Needs and Uses: The USPTO administers the Trademark Act of 1946 through the regulations at 37 CFR part 2, which contains the various rules that govern the filings and other submissions filed in connection with inter partes and ex parte proceedings. These petitions, notices, extensions, and additional papers are filed with the Trademark Trial and Appeal Board (TTAB), an administrative tribunal empowered to determine the right to register and subsequently determine the validity of a trademark.

This collection of information is required by the Trademark Act of 1946, Sections 13, 14, and 20, 15 U.S.C. 1063, 1064, and 1070, respectively. Under the Trademark Act, any individual or entity that adopts a trademark or service mark to identify their goods or services may apply to federally register their mark. Section 14 of the Trademark Act allows individuals and entities to file a petition to cancel a registration of a mark, while Section 13 allows individuals and entities who believe that they would be damaged by the registration of a mark to file an opposition, or an extension of time to file an opposition, to the registration of a mark. Section 20 of the Trademark Act allows individuals and entities to file an appeal from any final decision of the Trademark Examining Attorney assigned to review an application for registration of a mark.

The information in this information collection must be submitted electronically through the Electronic System for Trademark Trials and Appeals (ESTTA). If applicants or entities wish to submit the petitions, notices, extensions, and additional papers in inter partes and ex parte cases, they must use the forms provided through ESTTA.

The responses in this information collection are a matter of public record, and are used by the public for a variety of private business purposes related to establishing and enforcing trademark rights. This information is important to the public, as both common law trademark owners and federal trademark registrants must actively protect their own rights.

Affected Public: Individuals or households; private sector. The USPTO estimates that the majority (95%) of respondents (i.e., applicants, patent owners, and requesters) will be from the private sector, but that about 5% will be individuals and households.

Frequency: On occasion.

Respondent's Obligation: Required to Obtain or Retain Benefits.

This information collection request may be viewed at www.reginfo.gov. Follow the instructions to view Department of Commerce, USPTO information collections currently under review by OMB.

Written comments and recommendations for this information collection should be submitted within 30 days of the publication of this notice on the following website www.reginfo.gov/public/do/PRAMain. Find this particular information collection by selecting “Currently under 30-day Review—Open for Public Comments” or by using the search function and entering either the title of the information collection or the OMB Control Number 0651-0040.

Further information can be obtained by:

• Email: InformationCollection@uspto.gov. Include “0651-0040 information request” in the subject line of the message.

• Mail: Kimberly Hardy, Office of the Chief Administrative Officer, United States Patent and Trademark Office, P.O. Box 1450, Alexandria, VA 22313-1450.

Kimberly Hardy,
Information Collections Officer, Office of the Chief Administrative Officer, United States Patent and Trademark Office.

[FR Doc. 2020-16451 Filed 7-29-20; 8:45 am]

BILLING CODE 3510-16-P